ENVIRONMENTAL PROTECTION AGENCY

40 CFR Part 52

[EPA-HQ-OAR-2021-0663; EPA-R07-OAR-2021-0851; FRL-11688-03-R7]

Air Plan Disapproval; Missouri; Interstate Transport of Air Pollution for the 2015 8-Hour Ozone National Ambient Air Quality Standards; Extension of Comment Period

AGENCY: Environmental Protection Agency (EPA).

ACTION: Proposed rule; extension of comment period.

SUMMARY: The Environmental Protection Agency (EPA) is extending the comment period for a proposed rule that published August 6, 2024. The current comment period for the proposed rule was set to end on September 20, 2024. In response to requests from commenters, the EPA is extending the comment period for the proposed action to October 21, 2024.

DATES: The comment period for the proposed rule published on August 6, 2024, at 89 FR 63860 is extended. Comments must be received on or before October 21, 2024.

ADDRESSES: You may send comments, identified by Docket ID No. EPA-R07-OAR-2021-0851 to https://www.regulations.gov. Follow the online instructions for submitting comments.

Instructions: All submissions received must include the Docket ID No. for this rulemaking. Comments received will be posted without change to www.regulations.gov, including any personal information provided. For detailed instructions on sending comments and additional information on the rulemaking process, see the “I. Written Comments” heading of the SUPPLEMENTARY INFORMATION section of the associated notice of proposed rulemaking (89 FR 63860 August 6, 2024).

Docket: There are two dockets supporting this action, EPA-R07-OAR-2021-0851 and EPA-HQ-OAR-2021-0663. EPA-R07-OAR-2021-0851 contains information specific to Missouri, including the notice of proposed rulemaking. Docket ID No. EPA-HQ-OAR-2021-0663 contains additional modeling files, emissions inventory files, technical support documents, and other relevant supporting documentation regarding interstate transport of emissions for the 2015 ozone NAAQS that are being used to support this action. All comments regarding information in either of these dockets are to be made in Docket ID No. EPA-R07-OAR-2021-0851. All documents in the docket are listed in the https://www.regulations.gov index. Although listed in the index, some information is not publicly available, e.g., CBI or other information whose disclosure is restricted by statute. Certain other material, such as copyrighted material, will be publicly available only in hard copy. Publicly available docket materials are available electronically in https://www.regulations.gov.

FOR FURTHER INFORMATION CONTACT: William Stone, Environmental Protection Agency, Region 7 Office, Air and Radiation Division, 11201 Renner Boulevard, Lenexa, Kansas 66219; telephone number: (913) 551-7714; email address: stone.william@epa.gov.

SUPPLEMENTARY INFORMATION: On August 6, 2024, the EPA published the proposed rule “Air Plan Disapproval; Missouri; Interstate Transport of Air Pollution for the 2015 8-Hour Ozone National Ambient Air Quality Standards” in the Federal Register (89 FR 63860). The original deadline to submit comments was September 20, 2024. This action extends the comment period in response to requests from commenters. Written comments must now be received by October 21, 2024.

Dated: August 23, 2024.
Meghan A. McCollister,
Regional Administrator, Region 7.

[FR Doc. 2024-19449 Filed 8-29-24; 8:45 am]

BILLING CODE 6560-50-P